DEPARTMENT OF THE INTERIOR

National Park Service

Federal Land Managers' Air Quality Related Values Work Group (FLAG)

AGENCY: National Park Service, Interior.

ACTION: Notice of availability of final report.

SUMMARY: The National Park Service, in cooperation with the U.S. Fish and Wildlife Service and the U.S. Department of Agriculture Forest Service, is announcing the availability of the final FLAG Phase I Report, and the accompanying Response to Public Comments document.

At the request of permit applicants and State and Federal permit review authorities, the Federal Land Managers (FLMs) (i.e., National Park Service, U.S. Fish and Wildlife Service, and U.S. Department of Agriculture Forest Service) formed the Federal Land Managers' Air Quality Related Values Work Group (FLAG) to develop a more consistent approach for evaluating air pollution effects on their resources. The FLAG effort focused on how air pollutants, such as ozone, particulate matter, nitrogen dioxide, sulfur dioxide, nitrates, and sulfates, could affect the health and status of resources in areas managed by the three agencies. FLAG formed subgroups that concentrated on four issues: (1) Terrestrial effects of ozone; (2) aquatic and terrestrial effects of wet and dry pollutant deposition; (3) visibility; and (4) process and policy issues. The final report contains issue-specific technical and policy analyses, recommendations for evaluating air quality related values, and guidelines for completing and evaluating new source review permit applications. In developing the final recommendations and guidelines, the FLMs considered public comments received at a public meeting and during a 90-day public comment period. The FLMs have prepared a companion report that summarizes and responds to the public comments received.

The FLMs recognize that permit applications may be at various stages of preparation, and may be based on previous guidance provided by the FLMs. Therefore, to “grandfather” those applications from the newly recommended guidance, the FLMs have established the following phase-in schedule for implementing the FLAG guidance. The FLMs expect that modeling protocols received after March 1, 2001, for applications to be submitted after April 1, 2001, follow the recommendations and guidance provided in the FLAG report. For complete permit applications and modeling protocols received after April 1, 2001, the FLMs expect the application/protocol to follow the recommendations and guidance provided in the FLAG report. Please note that although the FLAG report contains a wealth of information and will be a very useful tool, it is only guidance, not a rule. To expedite the FLMs' review of permit applications, the FLMs strongly encourage all permit applicants and permitting authorities to prepare and review new source permit applications in accordance with the FLAG guidance. To do otherwise will likely result in delays in the permitting process.

DATES: The FLMs expect new complete permit applications and modeling protocols submitted after April 1, 2001, to follow the recommendations and guidance provided in the FLAG report. This will facilitate the FLMs' review of these applications and protocols.

ADDRESSES: A copy of the final FLAG Phase I Report and the accompanying Response to Public Comments document can be downloaded from the Internet at: http://www.aqd.nps.gov/ard/flagfree/ . A copy can also be obtained from John Bunyak, Air Resources Division, National Park Service, P.O. Box 25287, Denver, Colorado, 80225; e-mail: john_bunyak@nps.gov.

FOR FURTHER INFORMATION CONTACT: John Bunyak at the above addresses or by calling (303) 969-2818.

Dated: December 20, 2000.
Mark Scruggs,
Acting Chief, Air Resources Division.

[FR Doc. 01-51 Filed 1-2-01; 8:45 am]

BILLING CODE 4310-70-P